ENVIRONMENTAL PROTECTION AGENCY

[FRL-6585-1]

Agency Information Collection Activities: Continuing Collection; Comment Request; Land Disposal Restrictions

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Land Disposal Restrictions, EPA ICR #1442, OMB Control Number 2050-0085, expires August 31, 2000. Before submitting the ICR to OMB for review and approval, EPA is soliciting comments on specific aspects of the proposed information collection as described below.

DATES: Comments must be submitted on or before June 26, 2000.

ADDRESSES: Commenters must send an original and two copies of their comments referencing docket number F-00-LRIP-FFFFF to: RCRA Docket Information Center, Office of Solid Waste (5305G), U.S. EPA, 401 M Street, SW, Washington, D.C. 20460. Hand deliveries of comments should be made to the Arlington, VA, address below. Comments may also be submitted electronically through the Internet to: rcradocket@epamail.epa.gov. Comments in electronic format should also be identified by the docket number F-2000-LRIP-FFFFF. All electronic comments must be submitted as an ASCII file avoiding the use of special characters and any form of encryption.

Commenters should not submit electronically any confidential business information (CBI). An original and two copies of CBI must be submitted under separate cover to: RCRA CBI Document Control Officer, Office of Solid Waste (5305W), U.S. EPA, 401 M Street, SW, Washington, D.C. 20460.

Public comments and supporting materials are available for viewing in the RCRA Information Center (RIC), located at Crystal Gateway I, First Floor, 1235 Jefferson Davis Highway, Arlington, VA. The RIC is open from 9:00 a.m. to 4:00 p.m., Monday through Friday, excluding federal holidays. To review docket materials, it is recommended that the public make an appointment by calling (703) 603-9230. The public may copy a maximum of 100 pages from any regulatory docket at no charge. Additional copies cost $0.15/page. This notice and the supporting documents that detail the Land Disposal Restrictions ICR are also available electronically. See the SUPPLEMENTARY INFORMATION section for information on accessing them.

FOR FURTHER INFORMATION CONTACT: For general information, contact the RCRA Hotline at 1-800-424-9346 or TDD 1-800-553-7672 (hearing impaired). In the Washington, D.C., metropolitan area, call (703) 412-9810 or TDD (703) 412-3323. For more detailed information on specific aspects of this information collection, contact Peggy Vyas, Office of Solid Waste (5302W), U.S. EPA, Ariel Rios Building, 1200 Pennsylvania Ave., NW, Washington, D.C. 20460, telephone: (703) 308-5477, E-mail: vyas.peggy@epamail.epa.gov.

SUPPLEMENTARY INFORMATION: Affected entities: Entities potentially affected by this action are generators of hazardous waste, as well as owners and operators of hazardous waste treatment, storage, and disposal facilities.

Title: Land Disposal Restrictions, EPA ICR # 1442, OMB Control Number 2050-0085, expires on August 31, 2000.

Internet Availability: The ICR is available on the Internet. Follow these instructions to access the information electronically: On WWW: http://www.epa.gov/epaoswer/hazwaste/ldr/ldr-icr.htm

The official record for this action will be kept in paper form. Accordingly, EPA will transfer all comments received electronically into paper form and place them in the official record, which will also include all comments submitted directly in writing.

EPA responses to comments, whether the comments are written or electronic, will be in a background document to a notice in the Federal Register. EPA will not immediately reply to commenters electronically other than to seek clarification of electronic comments that may be garbled in transmission or during conversion to paper form, as discussed above. (Note: The official record for this action will be kept in paper form and maintained at the address in the ADDRESSES section above.)

Abstract: Section 3004 of the Resource Conservation and Recovery Act (RCRA), as amended, requires that EPA develop standards for hazardous waste treatment, storage, and disposal as may be necessary to protect human health and the environment. Subsections 3004(d), (e), and (g) require EPA to promulgate regulations that prohibit the land disposal of hazardous waste unless it meets specified treatment standards described in subsection 3004(m).

The regulations implementing these requirements are codified in the Code of Federal Regulations (CFR) Title 40, part 268. EPA requires that facilities maintain the data outlined in this ICR so that the Agency can ensure that land disposed waste meets the treatment standards. EPA strongly believes that the recordkeeping requirements are necessary for the agency to fulfill its congressional mandate to protect human health and the environment.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The following table summarizes the burden associated with this ICR:

Citation | Annual recordkeeping burden | Annual reporting burden
§ 268.4 | 1 hour and 10 minutes | 2 hours and 10 minutes.
§ 268.7(a)(1) | 6 hours and 10 minutes | n/a.
§ 268.7(a)(2)-(4) | n/a | 20 minutes.
§ 268.7(a)(5) | 4 hours and 50 minutes | n/a.
§ 268.7(a)(6)-(8) | 10 minutes | n/a.
§ 268.7(a)(9)-(10) | n/a | 40 minutes.
§ 268.7(b)(3)-(6) | 3 hours | 33 hours and 30 minutes.
§ 268.7(c)(1) | 40 minutes | n/a.
§ 268.7(d) | 2 hours and 15 minutes | 10 minutes.
§ 268.7(e) | 10 minutes | 30 minutes.
§ 268.9(d) | 5 minutes | n/a.
§ 268.42 | 1 hour and 30 minutes | 11 hours.
§ 268.44 | 1 hour and 30 minutes | 10 hours and 40 minutes.
§ 268.50(a)(2) | 4 hours and 30 minutes | n/a.
Total | 26 hours | 59 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 19, 2000.
James R. Berlow,
Acting Director, Office of Solid Waste.

[FR Doc. 00-10520 Filed 4-26-00; 8:45 am]

BILLING CODE 6560-50-P